SMALL BUSINESS ADMINISTRATION

[Disaster Declaration # 13841 and # 13842]

ARKANSAS Disaster Number AR-00066

AGENCY: U.S. Small Business Administration.

ACTION: Amendment 1

SUMMARY: This is an amendment of the Presidential declaration of a major disaster for Public Assistance Only for the State of ARKANSAS (FEMA—4160—DR), dated 01/06/2014.

Incident: Severe Winter Storm

Incident Period: 12/05/2013 through 12/06/2013

Effective Date: 01/22/2014

Physical Loan Application Deadline Date: 03/07/2014

Economic Injury (EIDL) Loan Application Deadline Date: 10/06/2014

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for Private Non-Profit organizations in the State of ARKANSAS, dated 01/06/2014, is hereby amended to include the following areas as adversely affected by the disaster.

Primary Counties: Fulton.

All other information in the original declaration remains unchanged.

(Catalog of Federal Domestic Assistance Numbers 59002 and 59008)

James E. Rivera,
Associate Administrator for Disaster Assistance.

[FR Doc. 2014-01990 Filed 1-30-14; 8:45 am]

BILLING CODE 8025-01-P